DEPARTMENT OF AGRICULTURE

Forest Service

Glade Rangeland Management Analysis; San Juan National Forest; Colorado

AGENCY: Forest Service, USDA.

ACTION: Notice of intent to prepare an environmental impact statement.

SUMMARY: The Forest Service intends to prepare an environmental impact statement to analyze and disclose the environmental effects of livestock grazing on eight allotments within the Glade Landscape analysis area. The project would continue domestic livestock grazing on all or portions of the Glade Landscape in a way that moves resource conditions toward desired on-the-ground conditions and is consistent with Forest Plan standards and guidelines.

DATES: While public participation in this analysis is welcome at any time, comments received by July 6, 2015, will be especially useful in the preparation of the draft EIS.

ADDRESSES: Scoping comments may be submitted in writing to Derek Padilla, District Ranger, Dolores Ranger District, 29211 Highway 184, Dolores, CO 81323; comments may also be emailed to hjmusclow@fs.fed.us or sent by facsimile to 970-882-6841. All comments, including names and addresses when provided, are placed in the record and are available for public inspection and copying.

FOR FURTHER INFORMATION CONTACT: Heather Musclow, Rangeland Management Specialist, telephone 970-882-7296. Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of this action is to continue domestic livestock grazing of the Glade Landscape in a manner that moves resource conditions toward desired on-the-ground conditions and is consistent with Forest Plan standards and guidelines.

Proposed Action

The Glade Landscape consists of 165,000 acres in Townships 37-42 North, Ranges 15-18 West, in the northwest portion of the Dolores Ranger District, San Juan National Forest. It occupies parts of Dolores and Montezuma counties and contains eight livestock grazing allotments. If the District Ranger approves livestock grazing, the preferred NEPA alternative will guide the development of an Allotment Management Plan for that allotment. The Allotment Management Plans will become part of the corresponding term grazing permits.

The Proposed Action would continue livestock grazing on 7 allotments (Brumley, Mair, Salter, Glade, Long Park, Lone Mesa, and Calf). In addition, portions of the Sagehen Allotment is proposed for closure while other portions would continue to allow trailing and occasional livestock grazing. Adjustments to livestock numbers and/or management specific to each allotment are proposed to move each allotment towards desired conditions. Additional management actions are included for implementation should current proposed actions not achieve desired results.

Additional information about the proposed action can be obtained online at http://www.fs.usda.gov/project/?project=43416.

Decision To Be Made

The decision to be made is whether or not to allow livestock grazing on each allotment (the No Grazing Alternative) and if so, to implement the proposed action as described above (the Proposed Alternative) to meet the purpose and need through some combination of activities, or to take no action at this time (the No Action Alternative).

Scoping Process

Comments from the public and other agencies will be used in preparation of the draft EIS. The scoping process will be used to identify questions and issues regarding the proposed action. An issue is defined as a point of dispute, debate, or disagreement related to a specific proposed action based on its anticipated effects. Significant issues brought to our attention are used during an environmental analysis to develop alternatives to the proposed action.

Estimated Future Dates

The draft EIS is expected to be filed with the Environmental Protection Agency and available for public review in September of 2015. The comment period on the draft EIS will be 45 days from the date the Environmental Protection Agency publishes the notice of availability of the draft EIS in the Federal Register.

Administrative Review Processes

For project-level decisions about livestock grazing and management, the Forest Service will apply its pre-decisional administrative review process described in 36 CFR part 218, subparts A and B. Preliminary decisions about livestock management will be described in a draft Record of Decision.

Responsible Official and Lead Agency

The USDA Forest Service is the lead agency for this proposal. District Ranger Derek Padilla is the responsible official.

Dated: May 4, 2015.
Derek Padilla,
Dolores District Ranger.

[FR Doc. 2015-13628 Filed 6-3-15; 8:45 am]

BILLING CODE 3410-11-P